DEPARTMENT OF ENERGY

Federal Energy Regulatory Commission

[Docket Nos. CP08-8-000]

Leaf River Energy Center, LLC; Notice of Applications

October 23, 2007.

Take notice that on October 9, 2007, as supplemented on October 22, 2007, Leaf River Energy Center, LLC (Leaf River), 61 Wilton Road, Westport, CT, 06880, filed an application under section 7 of the Natural Gas Act for authorization to construct and operate a new underground natural gas storage and pipeline header facility to be located in Smith, Jasper, and Clarke Counties, Mississippi. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Questions concerning this application may be directed to James F. Bowe, Jr., Dewey & LeBoeuf LLP, 975 F Street, NW., Washington, DC 20004, and (phone) 202-862-1000.

Leaf River seeks: (1) A certificate of public convenience and necessity that would authorize Leaf River to construct, own, operate and maintain a high-deliverability salt cavern gas storage facility that will accommodate the injection, storage and subsequent withdrawal of natural gas for redelivery in interstate commerce; (2) a blanket certificate pursuant to Subpart G of 18 CFR Part 284 that will permit Leaf River to provide open-access firm and interruptible natural gas storage services on behalf of others in interstate commerce with pre-granted abandonment of such services; (3) a blanket certificate pursuant to Subpart F of 18 CFR Part 157 that will permit Leaf River to construct, acquire, operate, rearrange and abandon certain facilities following construction of the proposed project; (4) authorization to provide the proposed storage services at market-based rates; and (5) approval of a pro forma FERC Gas Tariff, under which Leaf River will provide open-access natural gas storage services in interstate commerce.

Leaf River states that the Project will include four storage caverns with a total working gas capacity of 32 billion cubic feet (Bcf), supported by cushion gas capacity of 9.9 Bcf. Leaf River also states that the Project will be capable of withdrawing and delivering gas at a rate of up to 2.5 Bcf per day and of receiving and injecting gas at a rate of up to 1.0 Bcf per day. Leaf River proposes that the Project will include a natural gas pipeline header system to interconnections with five interstate gas transmission pipelines. Leaf River states that the Project's header system will include dual bi-directional 24-inch natural gas pipelines and a length of single 24-inch gas pipeline, which will follow the corridor to be occupied by the proposed Gulf South Southeast Expansion Project for about 37 miles. Leaf River represents that construction and operation of the Project will have minimal impacts on the natural environment and on adjacent landowners.

Leaf River states that the market power study included with its Application demonstrates that Leaf River will not have market power in any relevant market. It asserts that the Commission can therefore conclude that Leaf River will be unable to charge or collect rates for its services that exceed just and reasonable levels. Leaf River states that its proposed pipeline header system will include no end-user interconnections and will function exclusively as the means by which Leaf River provides storage and wheeling services nominated by its customers.

Leaf River also requests that the Commission waive the requirements of (i) 18 CFR 157.6(b)(8) and 157.14(a)(13), (14), (16), (17) (which relate to the filing of information required to justify rates on a cost-of-service basis, given that Leaf River proposes to charge market-based rates for the services it will provide); (ii) 18 CFR 157.14(a)(10) (which requires a showing regarding accessible gas supplies that is not applicable to a storage project to which third parties will deliver their gas); (iii) 18 CFR 260.2 and Part 201 (accounting and reporting requirements appropriate for a cost-of-service rate structure); and (iv) 18 CFR 284.7(e) and 284.10 (which impose requirements relating to the design of rates that are not applicable to market-based rates).

Leaf River states that the Project would provide necessary natural gas infrastructure in furtherance of the Commission's policies supporting the development of new natural gas storage capacity. According to Leaf River, the Project will increase the reliability of natural gas supply during periods of production and transportation interruptions and will enhance the reliability of the interstate pipeline grid.

Pursuant to section 157.9 of the Commission's rules, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time, November 14, 2007.

Kimberly D. Bose,
Secretary.

[FR Doc. E7-21230 Filed 10-26-07; 8:45 am]

BILLING CODE 6717-01-P